DEPARTMENT OF TRANSPORTATION

Federal Aviation Administration

Notice of Availability for Spaceport Camden Final Environmental Impact Statement (EIS), Camden County, GA

AGENCY: Federal Aviation Administration (FAA), Department of Transportation (DOT).

ACTION: Notice of availability.

SUMMARY: In accordance with the National Environmental Policy Act of 1969, as amended (NEPA), Council on Environmental Quality NEPA implementing regulations, and FAA Order 1050.1F, Environmental Impacts: Policies and Procedures, the FAA is announcing the availability of the Spaceport Camden Final EIS.

FOR FURTHER INFORMATION CONTACT: Stacey Zee, Environmental Protection Specialist, Federal Aviation Administration, 800 Independence Avenue SW, Suite 325, Washington, DC 20591; phone (202) 267-9305; email Stacey.Zee@faa.gov.

SUPPLEMENTARY INFORMATION: The FAA is the lead agency. The National Aeronautics and Space Administration and National Park Service are cooperating agencies for the Spaceport Camden Final EIS due to their special expertise and jurisdictions.

The FAA is evaluating the Camden County Board of Commissioners' proposal to operate a commercial space launch site called Spaceport Camden, on the Atlantic seaboard in Camden County, Georgia. Issuing a Launch Site Operator License is considered a major Federal action subject to environmental review under NEPA. Under the Proposed Action, the FAA would issue a Launch Site Operator License to the Camden County Board of Commissioners. The license would authorize the Camden County Board of Commissioners to offer Spaceport Camden as a launch site to vehicle operators to conduct launches of liquid-fueled, small, orbital vertical launch vehicles at Spaceport Camden.

The Final EIS evaluated the potential environmental impacts of the Proposed Action and the No Action Alternative. Under the No Action Alternative, the FAA would not issue a Launch Site Operator License to the Camden County Board of Commissioners.

The FAA published a Draft EIS for public review and comment on March 16, 2018. The FAA held a public hearing on Wednesday, April 11, and another on Thursday, April 12, 2018 at Camden County Public Service Authority Recreation Center Community Room, 1050 Wildcat Drive, Kingsland, GA 31548. The FAA received over 15,500 public comments on the Draft EIS (see Appendix A of the Final EIS). All comments received during the comment period were considered in the preparation of the Final EIS.

The Final EIS addresses modifications to the Proposed Action since the release of the 2018 Draft EIS and includes corresponding updates across all environmental resource areas. In December 2019, Camden County notified the FAA that it intended to submit an amended application for a Launch Site Operator License that would limit proposed launch operations to small launch vehicles, as opposed to the medium-large launch vehicles included in its original application and analyzed by the FAA in the Draft EIS. The County submitted an amended application on January 15, 2020. The amended application included data and analyses specific to launches of small launch vehicles. The amended application omitted booster flybacks, which are not a capability of small launch vehicles, and reduced the range of potential trajectories identified in the original application to a single 100 degree trajectory. The FAA has updated the EIS analyses to focus only on the small launch capability and parameters described in Camden County's amended application.

The FAA has posted the Final EIS on the FAA Office of Commercial Space Transportation website: https://www.faa.gov/space/environmental/nepa_docs/camden_eis/. In addition, links to the Final EIS were sent to persons and agencies on the distribution list (see Chapter 9 of the Final EIS). Printed copies of the Final EIS are available for review at the following locations:

• Camden County Public Library, 1410 Georgia Highway 40, Kingsland, GA 31548

• St. Marys Public Library, 100 Herb Bauer Drive, St. Marys, GA 31558

• Brunswick-Glynn County Library, 208 Gloucester Street, Brunswick, GA 31520

• St. Simons Island Public Library, 530A Beachview Drive, St. Simons Island, GA 31522

Issued in Washington, DC.
Daniel P. Murray,
Executive Director, Office of Operational Safety.

[FR Doc. 2021-13464 Filed 6-23-21; 8:45 am]

BILLING CODE 4910-13-P